INTERNATIONAL TRADE COMMISSION

[Investigation No. 337-TA-757]

Certain Game Devices, Components Thereof, and Products Containing the Same; Determination Not To Review An Initial Determination Granting Motion to Terminate Based Upon Withdrawal of the Complaint; Termination of the Investigation

AGENCY: U.S. International Trade Commission.

ACTION: Notice.

SUMMARY: Notice is hereby given that the U.S. International Trade Commission has determined not to review an initial determination (“ID”) (Order No. 9) of the presiding administrative law judge (“ALJ”) granting a motion by Complainant to terminate the investigation based upon withdrawal of the complaint.

FOR FURTHER INFORMATION CONTACT: Panyin A. Hughes, Esq., Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 28, 2011, based on a complaint filed by Microsoft Corporation of Redmond, Washington (“Microsoft”). 76 FR 5206 (Jan. 28, 2011). The complaint alleged violations of section 337 of the Tariff Act of 1930 (19 U.S.C. 1337) in the importation into the United States, the sale for importation, and the sale within the United States after importation of certain game devices, components thereof, and products containing the same by reason of infringement of certain claims of United States Patent No. 7,787,411. The complaint named the following entities as respondents: Datel Design and Development Inc. of Clearwater, Florida; and Datel Design and Development Ltd., Datel Direct Ltd., Datel Holdings Ltd., and Datel Electronics Ltd. all of Staffordshire, United Kingdom (collectively, “Datel”).

On August 29, 2011, Microsoft filed a motion to terminate the investigation in its entirety based upon withdrawal of the complaint. On August 30, 2011, the Commission investigative attorney filed a response in support of the motion. On September 8, 2011, Respondent Datel filed a response in support of the motion and requested that the ALJ impose certain conditions on Microsoft.

On October 18, 2011, the ALJ issued the subject ID (Order No. 9) terminating the investigation. None of the parties petitioned for review of the ID. The Commission has determined not to review the ID. Accordingly, this investigation is terminated.

The authority for the Commission's determination is contained in section 337 of the Tariff Act of 1930, as amended (19 U.S.C. 1337), and in section 210.42 of the Commission's Rules of Practice and Procedure (19 CFR 210.42).

Issued: November 2, 2011.
By order of the Commission.
James R. Holbein,
Secretary to the Commission.

[FR Doc. 2011-28787 Filed 11-7-11; 8:45 am]

BILLING CODE 7020-02-P